DEPARTMENT OF COMMERCE

International Trade Administration

[A-821-810]

Notice of Final Determination of Sales at Less Than Fair Value: Certain Cold-Rolled Flat-Rolled Carbon-Quality Steel Products From the Russian Federation

AGENCY: Import Administration, International Trade Administration, Department of Commerce.

EFFECTIVE DATE: February 4, 2000.

FOR FURTHER INFORMATION CONTACT: Michael Panfeld or Rick Johnson, Import Administration, International Trade Administration, U.S. Department of Commerce, 14th Street and Constitution Avenue, NW, Washington, DC 20230; telephone: (202) 482-0172 and (202) 482-3818, respectively.

The Applicable Statute

Unless otherwise indicated, all citations to the statute are references to the provisions effective January 1, 1995, the effective date of the amendments made to the Tariff Act of 1930 (“the Act”) by the Uruguay Round Agreements Act (“URAA”). In addition, unless otherwise indicated, all references to the Department's regulations are to the provisions codified at 19 CFR Part 351 (1998).

Final Determination

We determine that certain cold-rolled flat-rolled carbon-quality steel products (“cold-rolled steel products”) from the Russian Federation (“Russia”) are being, or are likely to be, sold in the United States at less than fair value (“LTFV”), as provided in section 735 of the Act. The estimated margins of sales at LTFV are shown in the “Final LTFV Margin” section of this notice.

Case History

Petitioners in this investigation are Bethlehem Steel Corporation, Gulf States Steel, Ispat Inland Steel, LTV Steel Company Inc., National Steel Corporation, Steel Dynamics, U.S. Steel Group (a unit of USX Corporation), Weirton Steel Corporation, United Steelworkers of America, and the Independent Steelworkers Union (collectively “petitioners”).

Respondents in this investigation are JSC Severstal (“Severstal”) and Novolipetsk Iron & Steel Corporation (“NISCO”).

The preliminary determination in this investigation was published on November 10, 1999. See Notice of Preliminary Determination of Sales at Less Than Fair Value: Certain Cold-Rolled Flat-Rolled Carbon-Quality Steel Products From the Russian Federation, 64 FR 61261 (November 10, 1999) (“Preliminary Determination”).

The Department received comments from a number of parties including importers, respondents, consumers, and the petitioners, aimed at clarifying the scope of these investigations. See Memorandum to Joseph A. Spetrini (“Scope Memorandum”), January 18, 2000, for a list of all persons submitting comments and a discussion of all scope comments including those exclusion requests under consideration at the time of the preliminary determination in these investigations.

On November 12 and December 1, 1999, respectively, respondents NISCO and Severstal submitted letters informing the Department of their withdrawal from further participation in the proceeding. On December 29, 1999, petitioners filed their case brief in this investigation. No further comments were received by any party. On November 29, 1999 petitioners requested a hearing. However, on January 5, 2000, petitioners withdrew their hearing request.

On January 13, 2000, the Department signed an agreement suspending this antidumping investigation (“the Suspension Agreement”) with the Ministry of Trade of the Russian Federation. On December 22, 1999, we received a request from petitioners that, if we concluded a suspension agreement in this case, we continue the investigation. Pursuant to this request, we have continued and completed the investigation in accordance with section 734(g) of the Act. If the United States International Trade Commission (“ITC”) determines that material injury exists, the Suspension Agreement shall remain in force but the Department shall not issue an antidumping order so long as the Suspension Agreement remains in force, the Suspension Agreement continues to meet the requirements of subsections (d) and (l) of section 734 of the Act, and the parties to the Suspension Agreement carry out their obligations under the Suspension Agreement in accordance with its terms.

Scope of Investigation

For purposes of this investigation, the products covered are certain cold-rolled (cold-reduced) flat-rolled carbon-quality steel products, neither clad, plated, nor coated with metal, but whether or not annealed, painted, varnished, or coated with plastics or other non-metallic substances, both in coils, 0.5 inch wide or wider, (whether or not in successively superimposed layers and/or otherwise coiled, such as spirally oscillated coils), and also in straight lengths, which, if less than 4.75 mm in thickness having a width that is 0.5 inch or greater and that measures at least 10 times the thickness; or, if of a thickness of 4.75 mm or more, having a width exceeding 150 mm and measuring at least twice the thickness. The products described above may be rectangular, square, circular or other shape and include products of either rectangular or non-rectangular cross-section where such cross-section is achieved subsequent to the rolling process (i.e., products which have been “worked after rolling”)—for example, products which have been beveled or rounded at the edges.

Specifically included in this scope are vacuum degassed, fully stabilized (commonly referred to as interstitial-free (“IF”)) steels, high strength low alloy (“HSLA”) steels, and motor lamination steels. IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum.

Steel products included in the scope of this investigation, regardless of definitions in the Harmonized Tariff Schedules of the United States (“HTSUS”), are products in which: (1) iron predominates, by weight, over each of the other contained elements; (2) the carbon content is 2 percent or less, by weight, and; (3) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium (also called columbium), or

0.15 percent of vanadium, or

0.15 percent of zirconium.

All products that meet the written physical description, and in which the chemistry quantities do not exceed any one of the noted element levels listed above, are within the scope of this investigation unless specifically excluded. The following products, by way of example, are outside and/or specifically excluded from the scope of this investigation:

• SAE grades (formerly also called AISI grades) above 2300;

• Ball bearing steels, as defined in the HTSUS;

• Tool steels, as defined in the HTSUS;

• Silico-manganese steel, as defined in the HTSUS;

• Silicon-electrical steels, as defined in the HTSUS, that are grain-oriented;

• Silicon-electrical steels, as defined in the HTSUS, that are not grain-oriented and that have a silicon level exceeding 2.25 percent;

• All products (proprietary or otherwise) based on an alloy ASTM specification (sample specifications: ASTM A506, A507);

• Non-rectangular shapes, not in coils, which are the result of having been processed by cutting or stamping and which have assumed the character of articles or products classified outside chapter 72 of the HTSUS.

• Silicon-electrical steels, as defined in the HTSUS, that are not grain-oriented and that have a silicon level less than 2.25 percent, and

(a) fully-processed, with a core loss of less than 0.14 watts/pound per mil (.001 inch), or

(b) semi-processed, with core loss of less than 0.085 watts/pound per mil (.001 inch);

• Certain shadow mask steel, which is aluminum killed cold-rolled steel coil that is open coil annealed, has an ultra-flat, isotropic surface, and which meets the following characteristics:

Thickness: 0.001 to 0.010 inch

Width: 15 to 32 inches

Chemical Composition
Element | C
Weight % | < 0.002%

• Certain flapper valve steel, which is hardened and tempered, surface polished, and which meets the following characteristics:

Thickness: ≤1.0 mm

Width: ≤152.4 mm

Chemical Composition
Element | C | Si | Mn | P | S
Weight % | 0.90-1.05 | 0.15-0.35 | 0.30-0.50 | ≤0.03 | ≤0.006

Mechanical Properties
Tensile Strength | ≧162 Kgf/mm²
Hardness | ≧475 Vickers hardness number

Physical Properties
Flatness | <0.2% of nominal strip width

Microstructure: Completely free from decarburization. Carbides are spheroidal and fine within 1% to 4% (area percentage) and are undissolved in the uniform tempered martensite.

Non-Metallic Inclusion
| Area percentage
Sulfide Inclusion | ≦0.04%
Oxide Inclusion | ≦0.05%

Compressive Stress: 10 to 40 Kgf/mm ².

Surface Roughness
Thickness (mm) | Roughness (μm)
t≤0.209 | Rz≤0.5
0.209<t≤0.310 | Rz≤0.6
0.310<t≤0.440 | Rz≤0.7
0.440<t≤0.560 | Rz≤0.8
0.560<t | Rz≤1.0

• Certain ultra thin gauge steel strip, which meets the following characteristics:

• Thickness: ≤ 0.100 mm ±7%

• Width: 100 to 600 mm

Chemical Composition
Element | C | Mn | P | S | Al | Fe
Weight % | ≤0.07 | 0.2-0.5 | ≤0.05 | ≤0.05 | ≤0.07 | Balance

Mechanical Properties
Hardness | Full Hard (Hv 180 minimum)
Total Elongation | <3%
Tensile Strength | 600 to 850 N/mm²

Physical Properties
Surface Finish | ≤0.3 micron
Camber (in 2.0 m) | <3.0 mm
Flatness (in 2.0 m) | ≤0.5 mm
Edge Burr | <0.01 mm greater than thickness
Coil Set (in 1.0 m) | <75.0 mm

• Certain silicon steel, which meets the following characteristics:

• Thickness: 0.024 inch ±.0015 inch

• Width: 33 to 45.5 inches

Chemical Composition
Element | C | Mn | P | S | Si | Al
Min. Weight % |  |  |  |  | 0.65
Max. Weight % | 0.004 | 0.4 | 0.09 | 0.009 |  | 0.4

Mechanical Properties
Hardness | B 60-75 (AIM 65)

Physical Properties
Finish | Smooth (30-60 microinches)
Gamma Crown (in 5 inches) | 0.0005 inch, start measuring ¼ inch from slit edge
Flatness | 20 I-UNIT max.
Coating | C3A-.08A max. (A2 coating acceptable)
Camber (in any 10 feet) | 1/16 inch
Coil Size I.D. | 20 inches

Magnetic Properties
Core Loss (1.5T/60 Hz) NAAS | 3.8 Watts/Pound max.
Permeability (1.5T/60 Hz) NAAS | 1700 gauss/oersted typical 1500 minimum

• Certain aperture mask steel, which has an ultra-flat surface flatness and which meets the following characteristics:

Thickness: 0.025 to 0.245 mm

Width: 381-1000 mm

Chemical Composition
Element | C | N | Al
Weight % | <0.01 | 0.004 to 0.007 | <0.007

• Certain annealed and temper-rolled cold-rolled continuously cast steel, which meets the following characteristics:

Chemical Composition
Element | C | Mn | P | S | Si | Al | As | Cu | B | N
Min. Weight % | 0.02 | 0.20 |  |  |  | 0.03 |  |  |  | 0.003
Max. Weight % | 0.06 | 0.40 | 0.02 | 0.023 (Aiming 0.018 Max.) | 0.03 | 0.08 (Aiming 0.05) | 0.02 | 0.08 |  | 0.008 (Aiming 0.005)

Non-metallic Inclusions: Examination with the S.E.M. shall not reveal individual oxides >1 micron (0.000039 inch) and inclusion groups or clusters shall not exceed 5 microns (0.000197 inch) in length.

Surface Treatment as follows:

The surface finish shall be free of defects (digs, scratches, pits, gouges, slivers, etc.) and suitable for nickel plating.

Surface Finish
| Roughness, RA Microinches (Micrometers): Aim | Roughness, RA Microinches (Micrometers): Min. | Roughness, RA Microinches (Micrometers): Max.
Extra Bright | 5(0.1) | 0(0) | 7(0.2)

• Certain annealed and temper-rolled cold-rolled continuously cast steel, which meets the following characteristics:

Chemical Composition
Element | C | Si | Mn | P | S | Al | N
Weight % | < 0.08 | < 0.04 | < 0.40 | < 0.03 | < 0.03 | 0.010—0.025 | < 0.0025

Physical and Mechanical Properties
Thickness Tolerance: Guaranteed inside of 15 mm from mill edges | +5 percent (aim ±4 percent)
Width Tolerance | −0/+7 mm
Hardness (Hv) | Hv 85-110
Annealing | Annealed
Surface | Matte
Tensile Strength | >275N/mm2
Elongation | >36%

• Certain annealed and temper-rolled cold-rolled continuously cast steel, in coils, with a certificate of analysis per Cable System International (“CSI”) Specification 96012, with the following characteristics:

Chemical Composition:
Element | C | Mn | P | S
Max. Weight % | 0.13 | 0.60 | 0.02 | 0.05

Physical and Mechanical Properties
Base Weight | 55 pounds
Theoretical Thickness | 0.0061 inch (+10 percent of theoretical thickness)
Width | 31 inches
Tensile Strength | 45,000—55,000 psi
Elongation | minimum of 15 percent in 2 inches

• Certain full hard tin mill black plate, continuously cast, which meets the following characteristics:

Chemical Composition
Element | C | Mn | P | S | Si | Al | As | Cu | B | N
Min. Weight % | 0.02 | 0.20 |  |  |  | 0.03 |  |  |  | 0.003
Max. Weight % | 0.06 | 0.40 | 0.02 | 0.023 (Aiming 0.018 Max.) | 0.03 | 0.08 (Aiming 0.05) | 0.02 | 0.08 |  | 0.008 (Aiming 0.005)

Non-metallic Inclusions: Examination with the S.E.M. shall not reveal individual oxides > micron (0.000039 inch) and inclusion groups or clusters shall not exceed 5 microns (0.000197 inch) in length.

Surface Treatment as follows:

The surface finish shall be free of defects (digs, scratches, pits, gouges, slivers, etc.) and suitable for nickel plating.

Surface Finish
| Roughness, RA Microinches (Micrometers): Aim | Roughness, RA Microinches (Micrometers): Min. | Roughness, RA Microinches (Micrometers): Max.
Stone Finish | 16 (0.4) | 8 (0.2) | 24 (0.6)

• Certain ultra-bright tin mill black plate meeting ASTM 7A specifications for surface finish and RA of seven micro-inches or lower.

• Concast cold-rolled drawing quality sheet steel, ASTM a-620-97, Type B, or single reduced black plate, ASTM A-625-92, Type D, T-1, ASTM A-625-76 and ASTM A-366-96, T1-T2-T3 Commercial bright/luster 7a both sides, RMS 12 maximum. Thickness range of 0.0088 to 0.038 inches, width of 23.0 inches to 36.875 inches.

• Certain single reduced black plate, meeting ASTM A-625-98 specifications, 53 pound base weight (0.0058 inch thick) with a Temper classification of T-2 (49-57 hardness using the Rockwell 30 T scale).

• Certain single reduced black plate, meeting ASTM A-625-76 specifications, 55 pound base weight, MR type matte finish, TH basic tolerance as per A263 trimmed.

• Certain single reduced black plate, meeting ASTM A-625-98 specifications, 65 pound base weight (0.0072 inch thick) with a Temper classification of T-3 (53-61 hardness using the Rockwell 30 T scale).

• Certain cold-rolled black plate bare steel strip, meeting ASTM A-625 specifications, which meet the following characteristics:

Chemical Composition
Element | C | Mn | P | S
Max. Weight % | 0.13 | 0.60 | 0.02 | 0.05

Physical and Mechanical Properties
Thickness | 0.0058 inch ±0.0003 inch
Hardness | T2/HR 30T 50-60 aiming
Elongation | ≥15%
Tensile Strength | 51,000 psi ±4.0 aiming

• Certain cold-rolled black plate bare steel strip, in coils, meeting ASTM A-623, Table II, Type MR specifications, which meet the following characteristics:

Chemical Composition
Element | C | Mn | P | S
Max. Weight % | 0.13 | 0.60 | 0.04 | 0.05

Physical and Mechanical Properties
Thickness | 0.0060 inch (±0.0005 inch)
Width | ≤10 inches (+1/4 to 3/8 inch/−0)
Tensile strength | 55,000 psi max.
Elongation | minimum of 15 percent in 2 inches

Certain “blued steel” coil (also know as “steamed blue steel” or “blue oxide”) with a thickness of 0.30 mm to 0.42 mm and width of 609 mm to 1219 mm, in coil form;

Certain cold-rolled steel sheet, whether coated or not coated with porcelain enameling prior to importation, which meets the following characteristics:

Thickness (nominal): ≤0.019 inch

Width: 35 to 60 inches

Chemical Composition
Element | C | O | B
Max. Weight % | 0.004
Min. Weight % |  | 0.010 | 0.012

Certain cold-rolled steel, which meets the following characteristics:

Width: >66 inches

Chemical Composition
Element | C | Mn | P | Si
Max. Weight % | 0.07 | 0.67 | 0.14 | 0.03

Physical and Mechanical Properties
Thickness Range (mm) | 0.800-2.000
Min. Yield Point (MPa) | 265
Max. Yield Point (MPa) | 365
Min. Tensile Strength (MPa) | 440
Min. Elongation % | 26

Certain band saw steel, which meets the following characteristics:

Thickness: ≤1.31 mm

Width: ≤80 mm

Chemical Composition
Element | C | Si | Mn | P | S | Cr | Ni
Weight% | 1.2 to 1.3 | 0.15 to 0.35 | 0.20 to 0.35 | >0.03 | >0.007 | 0.3 to 0.5 | >0.25

Other properties:

Carbide: fully spheroidized having > 80% of carbides, which are ≤ 0.003 mm and uniformly dispersed

Surface finish: bright finish free from pits, scratches, rust, cracks, or seams

Smooth edges

Edge camber (in each 300 mm of length): ≤ 7 mm arc height

Cross bow (per inch of width): 0.015 mm max.

• Certain transformation-induced plasticity (TRIP) steel, which meets the following characteristics:

Variety 1

Chemical Composition
Element | C | Si | Mn
Min. Weight % | 0.09 | 1.0 | 0.90
Max. Weight % | 0.13 | 2.1 | 1.7

Physical and Mechanical Properties
Thickness Range (mm) | 1.000-2.300 (inclusive)
Min. Yield Point (MPa) | 320
Max Yield Point (MPa) | 480
Min. Tensile Strength (MPa) | 590
Min. Elongation % | 24 (if 1.000-1.199 thickness range) 25 (if 1.200-1.599 thickness range) 26 (if 1.600-1.999 thickness range) 27 (if 2.000-2.300 thickness range)

Variety 2

Chemical Composition
Element | C | Si | Mn
Min. Weight % | 0.12 | 1.5 | 1.1
Max. Weight % | 0.16 | 2.1 | 1.9

Physical and Mechanical Properties
Thickness Range (mm) | 1.000-2.300 (inclusive)
Min. Yield Point (MPa) | 340
Max Yield Point (MPa) | 520
Min. Tensile Strength (MPa) | 690
Min. Elongation % | 21 (if 1.000-1.199 thickness range) 22 (if 1.200-1.599 thickness range) 23 (if 1.600-1.999 thickness range) 24 (if 2.000-2.300 thickness range)

Variety 3

Chemical Composition
Element | C | Si | Mn
Min. Weight % | 0.13 | 1.3 | 1.5
Max. Weight % | 0.21 | 2.0 | 2.0

Physical and Mechanical Properties
Thickness Range (mm) | 1.200-2.300 (inclusive)
Min. Yield Point (MPa) | 370
Max Yield Point (MPa) | 570
Min. Tensile Strength (MPa) | 780
Min. Elongation % | 18 (if 1.200-1.599 thickness range) 19 (if 1.600-1.999 thickness range) 20 (if 2.000-2.300 thickness range)

• Certain corrosion-resistant cold-rolled steel, which meets the following characteristics:

Variety 1

Chemical Composition
Element | C | Mn | P | Cu
Min. Weight % |  |  |  | 0.15
Max. Weight % | 0.10 | 0.40 | 0.10 | 0.35

Physical and Mechanical Properties
Thickness Range (mm) | 0.600-0.800
Min. Yield Point (MPa) | 185
Max Yield Point (MPa) | 285
Min. Tensile Strength (MPa) | 340
Min. Elongation % | 31 (ASTM standard 31% = JIS standard 35%)

Variety 2

Chemical Composition
Element | C | Mn | P | Cu
Min. Weight % |  |  |  | 0.15
Max. Weight % | 0.05 | 0.40 | 0.08 | 0.35

Physical and Mechanical Properties
Thickness Range (mm) | 0.800-1.000
Min. Yield Point (MPa) | 145
Max Yield Point (MPa) | 245
Min. Tensile Strength (MPa) | 295
Min. Elongation % | 31 (ASTM standard 31% = JIS standard 35%)

Variety 3

Chemical Composition
Element | C | Si | Mn | P | S | Cu | Ni | Al | Nb, Ti, V, B | Mo
Max. Weight % | 0.01 | 0.05 | 0.40 | 0.10 | 0.023 | 0.15-.35 | 0.35 | 0.10 | 0.10 | 0.30

Physical and Mechanical Properties
Thickness (mm) | 0.7
Elongation % | ≥35

• Porcelain enameling sheet, drawing quality, in coils, 0.014 inch in thickness, +0.002, −0.000, meeting ASTM A-424-96 Type 1 specifications, and suitable for two coats.

The merchandise subject to this investigation is typically classified in the HTSUS at subheadings: 7209.15.0000, 7209.16.0030, 7209.16.0060, 7209.16.0090, 7209.17.0030, 7209.17.0060, 7209.17.0090, 7209.18.1530, 7209.18.1560, 7209.18.2550, 7209.18.6000. 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7225.19.0000, 7225.50.6000, 7225.50.7000, 7225.50.8010, 7225.50.8085, 7225.99.0090, 7226.19.1000, 7226.19.9000, 7226.92.5000, 7226.92.7050, 7226.92.8050, and 7226.99.0000.

Although the HTSUS subheadings are provided for convenience and U.S. Customs Service (“U.S. Customs”) purposes, the written description of the merchandise under investigation is dispositive.

Period of Investigation

The period of investigation is October 1, 1998 through March 31, 1999.

Nonmarket Economy Country Status

The Department has treated Russia as a nonmarket economy (“NME”) country in all past antidumping duty investigations and administrative reviews (see, e.g., Notice of Final Determination of Sales at Less Than Fair Value: Hot-Rolled Flat-Rolled Carbon-Quality Steel Products From the Russian Federation, 64 FR 38626 (July 19, 1999) (“Hot-Rolled Steel”); Titanium Sponge from the Russian Federation: Final Results of Antidumping Administrative Review, 64 FR 1599 (January 11, 1999); Notice of Final Determination of Sales at Less Than Fair Value: Certain Cut-to-Length Carbon Steel Plate from the Russian Federation, 62 FR 61787 (November 19, 1997); and Notice of Final Determination of Sale at Less Than Fair Value: Pure Magnesium and Alloy Magnesium from the Russian Federation, 60 FR 16440 (March 30, 1995)). A designation as an NME country remains in effect until it is revoked by the Department (see section 771(18)(C) of the Act). Therefore, for this final determination, the Department is continuing to treat Russia as an NME country.

Separate Rates

The Department presumes that a single dumping margin is appropriate for all exporters in an NME country. See Final Determination of Sales at Less Than Fair Value: Silicon Carbide from the People's Republic of China, 59 FR 22585 (May 2, 1994). The Department may, however, consider requests for a separate rate from individual exporters. Severstal and NISCO have each requested a separate, company-specific rate. However, because NISCO and Severstal withdrew from this proceeding, we were not able to verify information provided by these respondents and thus, as adverse facts available, we have not granted Severstal's or NISCO's request for a separate rate for this final determination. See “Application of Facts Available” below.

Russia-Wide Rate

After sending questionnaires to the nine companies identified as potential respondents in the petition, we received complete Section A responses from two producers—Severstal and NISCO. However, as noted above in the “Case History” section, these two companies (Severstal and NISCO) subsequently withdrew from the investigation. Accordingly, we are applying a single antidumping rate—the Russia-wide rate—to all exporters in Russia based on our presumption that those respondents who failed to respond to the initial questionnaire or withdrew from the investigation (i.e., Severstal and NISCO) constitute a single enterprise under common control by the Russian government. See, e.g., Final Determination of Sales at Less Than Fair Value: Bicycles from the People's Republic of China, 61 FR 19026 (April 30, 1996). As discussed below, the Russia-wide rate is based on adverse facts available, and applies to all entries of subject merchandise.

Application of Facts Available

Section 776(a) of the Act provides that, if an interested party withholds information that has been requested by the Department, fails to provide such information in a timely manner or in the form or manner requested, significantly impedes a proceeding under the antidumping statute, or provides information which cannot be verified, the Department shall use, subject to sections 782(d) and (e) of the Act, facts otherwise available in reaching the applicable determination. Thus, pursuant to section 776(a) of the Act, the Department is required to apply, subject to section 782(d), facts otherwise available. Pursuant to section 782(e), the Department shall not decline to consider such information if all of the following requirements are met: (1) The information is submitted by the established deadline; (2) the information can be verified; (3) the information is not so incomplete that it cannot serve as a reliable basis for reaching the applicable determination; (4) the interested party has demonstrated that it acted to the best of its ability; and (5) the information can be used without undue difficulties.

Russia-Wide Rate

Section 776(a)(2)(A) of the Act requires the Department to use facts available when a party withholds information which has been requested by the Department. Additionally, section 782(i)(1) of the Act provides that the Department must rely on verified information for making a final determination in an antidumping duty investigation. In this case, some exporters of the single enterprise failed to respond to the Department's request for information and Severstal and NISCO withdrew from the investigation prior to verification of their questionnaire responses. Thus, consistent with section 782(e)(2) of the Act, we have declined to consider information submitted by either Severstal or NISCO (including information regarding their eligibility for separate rates) because it could not be verified. As a result, pursuant to section 776(a) of the Act, in reaching our final determination, we have used total facts available for the Russia-wide rate because certain entities did not respond and we could not verify Severstal's and NISCO's questionnaire responses.

Section 776(b) of the Act provides that, in selecting from among the facts available, the Department may employ adverse inferences when an interested party fails to cooperate by not acting to the best of its ability to comply with requests for information. See also “Statement of Administrative Action” accompanying the URAA, H.R. Rep. No. 103-316, 870 (“SAA”). The statute and SAA provide that such an adverse inference may be based on secondary information, including information drawn from the petition.

Because certain exporters in the single entity did not respond to our questionnaire and others (i.e., Severstal and NISCO) withdrew from this proceeding, we consider the single entity to be uncooperative. In this regard, we note that while Severstal and NISCO did submit responses to the Department's information requests, their withdrawal from this investigation rendered the submitted information unverifiable and, hence, unusable in determining a final Russia-wide rate. Therefore, we also conclude that Severstal and NISCO (which, as noted above in the “Russia-wide Rate” section of this notice, are part of the single enterprise) have not cooperated to the best of their ability in this investigation. Therefore, the Department has determined that, in selecting from among the facts available, an adverse inference is appropriate. Consistent with Department practice in cases in which a respondent has been uncooperative, as adverse facts available, we have applied a margin based on information in the petition (see Comment below and Initiation Checklist: Certain Cold-Rolled Flat-Rolled Carbon-Quality Steel Products from Argentina, Brazil, the People's Republic of China (“China”), Indonesia, Japan, the Russian Federation (“Russia”), Slovakia, South Africa, Taiwan, Thailand, Turkey, and Venezuela, Attachment: Revised NVs and Margins for Russia (July 21, 1999) (“Initiation Checklist”)).

Section 776(c) of the Act provides that, when the Department relies on secondary information, such as the petition, as facts available, it must, to the extent practicable, corroborate that information from independent sources that are reasonably at its disposal. The SAA clarifies that “corroborate” means that the Department will satisfy itself that the secondary information to be used has probative value (see SAA at 870). The SAA also states that independent sources used for corroboration may include, for example, published price lists, official import statistics and customs data, and information obtained from interested parties during the particular investigation (see id.).

In order to determine the probative value of the petition margins for use as adverse facts available for the purposes of this determination, we have examined evidence supporting the petition calculations. In accordance with section 776(c) of the Act, to the extent practicable, we examined the key elements of the U.S. price and normal value (“NV”) calculations on which the petition margin was based. In corroborating U.S. price, we compared the data used in the petition and found that the price quote used in calculating the highest margin in the petition is within the range of the U.S. Customs' average unit value data for imports of cold-rolled steel from Russia. For NV information, we note that the surrogate value information used in the petition is public information, and therefore does not require further corroboration. With regard to the factor utilizations used in the petition, which were based on petitioner's own production experience (adjusted for known differences), the Department is aware of no other independent sources of information that would enable us to further corroborate this information. However, we note that the SAA (at 870) specifically states that where “corroboration may not be practicable in a given circumstance,” the Department may nonetheless apply an adverse inference. Therefore, based on this analysis, and mindful of the legislative history discussing facts available and corroboration, we consider the highest petition margin to be corroborated to the extent practicable and are assigning it to the single enterprise as adverse facts available. See Facts Available Corroboration Memorandum, dated January 18, 2000. The revised highest petition rate, which we have used as the Russia-wide rate, is 73.98 percent.

Interested Party Comment

Comment: Petitioners contend that, since both Severstal and NISCO have withdrawn their participation in this investigation, the Department is prevented from verifying their data. Petitioners argue that the statute provides for application of total facts available under such circumstances. Moreover, because respondents have not fully cooperated with the Department, petitioners assert that they should be assigned a margin based on an adverse inference, citing Notice of Final Determination of Sales at Less Than Fair Value: Steel Wire Rod from Venezuela, 63 FR 8946, 8947 (February 23, 1998).

In selecting an adverse inference, petitioners argue that the Department's practice is to use the highest of: The highest margin in the petition (or initiation); the highest margin calculated for any other respondent; or the estimated margin found in the preliminary determination. Petitioners contend that respondents withdrew from further participation after realizing that the results of the investigation would be more favorable to them if based on something other than verification results. Therefore, petitioners argue, the Department should select the margin calculated for the Preliminary Determination to prevent respondents from benefitting from their own lack of cooperation.

Petitioners contend that the Department has the ability to use, as facts otherwise available, a margin based on respondent's data even though that data is unverified. Petitioners cite to Notice of Final Determination of Sales at Less Than Fair Value: Foam Extruded PVC and Polystyrene Framing Stock from the United Kingdom, 61 FR 51411 (October 2, 1996) (“Foam”) and Notice of Final Determination of Sales at Less Than Fair Value: Live Cattle from Canada, 64 FR 56738 (October 21, 1999) (“Cattle”) as examples of the Department using a respondent's calculated margin from the preliminary determination as the basis for an adverse inference in selecting facts available when the respondent has withdrawn from participation in the investigation subsequent to the preliminary determination and the data is therefore unverified. Petitioners argue that in the instant case, as was the case in Foam and Cattle, the respondent Severstal voluntarily submitted data and certified to its accuracy, and there is no evidence on the record to suggest that the data is aberrational.

Department's Position: As discussed in the “Application of Facts Available” section, we agree that respondents should be assigned a margin based on adverse facts available. However, we disagree with petitioners that we should select the margin calculated for Severstal in the preliminary determination.

The Act and the SAA allow for wide latitude in choosing among the facts available. Moreover, we make the determination of the most appropriate facts available on a case-by-case basis. Here, we are following our recent practice as articulated in Notice of Final Determination of Sales at Less Than Fair Value: Hot-Rolled Flat-Rolled Carbon-Quality Steel Products From the Russian Federation, 64 FR 38626 (July 19, 1999) (“Hot-Rolled Steel”). In that case, as here, respondents withdrew from the investigation after the preliminary determination, precluding verification of their submitted data pursuant to section 782(i)(1) of the Act. We stated:

Under section 782(i)(1) of the Act, the Department must rely on verified information for making a final determination in an antidumping duty investigation. MMK's and NISCO's withdrawal prior to verification of their questionnaire responses prevents the Department from using their information to calculate a weighted-average margin for our final determination.

Id. at 38630.

We acknowledge our decisions in Foam and in Cattle to use, as adverse facts available, information submitted by respondents that subsequently withdrew from the proceedings and refused to authorize on-site verification. However, the facts of Cattle differ from the present case to the extent that the information of the respondents who withdrew was found to be consistent with verified information otherwise on the record. Moreover, we disagree with petitioners that this indicates that our policy is to select unverified information for purposes of facts available simply because it is the highest rate on the record.

Finally, we disagree that Severstal will benefit from the Department's use of the highest petition rate as adverse facts available. While it is true that the highest petition margin is lower than the margin calculated for Severstal in the preliminary determination, we note that Severstal in fact submitted a revised database which the Department was not able to use in issuing its preliminary determination due to time constraints. Thus, it would be premature to conclude that Severstal benefitted through its withdrawal from this investigation, relative to what its final calculated margin may have been. As we stated in Hot-Rolled Steel at 38630, use of a company's “unverified information as the basis for the final margin could potentially benefit [it] by assigning a margin lower than what would have been calculated using verified information.”

For these reasons, we find that it is appropriate to apply, as adverse facts available, the highest margin alleged in the petition.

Final LTFV Margin

As stated above, the Department entered into a Suspension Agreement in this case on January 13, 2000. Pursuant to that Suspension Agreement, we have instructed Customs to terminate the suspension of liquidation of all entries of cold-rolled steel from Russia. Any cash deposits of entries of cold-rolled steel from Russia shall be refunded and any bonds shall be released.

As noted above, we received a request from petitioners to continue the investigation. Pursuant to this request, we have continued and completed the investigation in accordance with section 734(g) of the Act. We have found the following weighted-average dumping margin:

Exporter/manufacturer | Margin percentage
Russia-Wide Rate | 73.98

ITC Notification

In accordance with section 735(d) of the Act, we have notified the ITC of our determination. Because our final determination is affirmative, the ITC will, within 45 days, determine whether these imports are materially injuring, or threatening material injury to, the U.S. industry. If the ITC determines that material injury, or threat of material injury, does not exist, the Agreement will have no force or effect, and the investigation shall be terminated. See section 734(f)(3)(A) of the Act. If the ITC determines that such injury does exist, the Agreement shall remain in force but the Department shall not issue an antidumping order so long as: (1) The Agreement remains in force, (2) the Agreement continues to meet the requirements of subsections (d) and (l) of section 734 of the Act, and (3) the parties to the Agreement carry out their obligations under the Agreement in accordance with its terms. See section 734(f)(3)(B) of the Act.

This determination is issued and published in accordance with sections 735(d) and 777(i)(1) of the Act.

Dated: January 18, 2000.
Robert S. LaRussa,
Assistant Secretary for Import Administration.

[FR Doc. 00-1846 Filed 2-3-00; 8:45 am]

BILLING CODE 3510-DS-P